DEPARTMENT OF COMMERCE

National Oceanic and Atmospheric Administration

50 CFR Part 680

[Docket No. 0910051335-0171-01]

RIN 0648-AY28

Groundfish Fisheries of the Exclusive Economic Zone Off Alaska; Bering Sea/Aleutian Islands Crab Rationalization Program; Recordkeeping and Reporting

AGENCY: National Marine Fisheries Service (NMFS), National Oceanic and Atmospheric Administration (NOAA), Commerce.

ACTION: Proposed rule; request for comments.

SUMMARY: This proposed action removes the Crab Rationalization Program requirements for catcher/processors to weigh all offloaded crab on a state-approved scale that produces a printed record and to report this information at the time of offload to NMFS on a catcher/processor offload report. NMFS has determined that these requirements are no longer necessary. This proposed action is intended to promote the goals and objectives of the Magnuson-Stevens Fishery Conservation and Management Act (Magnuson-Stevens Act) and other applicable laws.

DATES: Comments must be received no later than August 25, 2010.

ADDRESSES: You may submit comments, identified by RIN 0648-AY28, by any one of the following methods:

• Electronic Submissions: Submit all electronic public comments via the Federal eRulemaking Portal at http://www.regulations.gov.

• Fax: 907-586-7557, Attn: Ellen Sebastian.

• Mail: P.O. Box 21668, Juneau, AK 99802.

• Hand Delivery to the Federal Building: 709 West 9th Street, Room 420A, Juneau, AK.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Electronic copies of this rule, the Regulatory Impact Review (RIR), and the categorical exclusion memorandum may be obtained from the Alaska Region website at http://alaskafisheries.noaa.gov.

Written comments regarding the burden-hour estimates or other aspects of the collection-of-information requirements contained in this proposed rule may be submitted to NMFS Alaska, Sustainable Fisheries Division, e-mailed to David_Rostker@omb.eop.gov, or faxed to 202-395-7285.

FOR FURTHER INFORMATION CONTACT: Patsy A. Bearden, 907-586-7228.

SUPPLEMENTARY INFORMATION: NMFS manages the U.S. crab fisheries under the Fishery Management Plan for Bering Sea/Aleutian Islands King and Tanner Crabs (FMP). The FMP was prepared by the North Pacific Fishery Management Council under the Magnuson-Stevens Act. Regulations implementing the FMP appear at 50 CFR parts 679 and 680. General regulations that pertain to U.S. fisheries appear at subpart H of 50 CFR part 600.

Background

The Crab Rationalization (CR) Program is a limited-access system that allocates crab managed under the FMP among harvesters, processors, and coastal communities. Currently, NMFS requires that all crab individual fishing quota (IFQ) harvested and processed by catcher/processors be weighed at sea prior to processing and that crab weights be reported to NMFS on an IFQ crab landings report (see § 679.5(e)(8)). The weights reported on the IFQ crab landings report are used to debit crab IFQ from a quota holder's account. In addition, catcher/processors are required to weigh the crab again when it is offloaded from the vessel and report this weight to NMFS on a catcher/processor offload report (see § 680.5(e)).

The original purpose of the offload report was to provide information so that NMFS could audit the IFQ crab landing reports. Completing this report requires a crab catcher/processor to offload all crab-processed product shoreside at a designated port and weigh that product on a scale approved by the state in which the crab is removed from the vessel. The offload report must be completed when crab are offloaded from the vessel and a scale printout showing gross product offload weight must be attached to the offload report. The weight reported on the offload report includes not only the weight of crab but also the weight of packaging, pallets, and glaze. While deductions for these items can be made, the deductions create variance in the total weight of crab landed shoreside. For this reason, NMFS has found it difficult to use the weights from the offload report to audit the weight obtained from the at-sea hopper scales as originally intended.

Advancements in at-sea reporting of crab catch (eLandings) and the improved reliability of the at-sea motion-compensated hopper scales have changed the need for CR catcher/processors to report offloads. Catcher/processors use eLandings to report total harvest of crab to NMFS weekly while at sea, which provides NMFS with up-to-date accounting of total crab harvested. Motion-compensated hopper scales provide reliable, independent estimates of the total catch by quota sector for all crab harvested.

Removal of the regulatory requirements for CR catcher/processors to weigh offloaded crab product and submit offload reports does not diminish NMFS' ability to verify reported CR crab catch weight. NMFS still requires that all crab be weighed at sea and scale weights of crab be submitted to NMFS on eLandings weekly reports. Alaska Department of Fish and Game (ADF&G) observers are onboard crab vessels and have the opportunity to observe hopper scale activities for consistency with the regulatory requirement that vessels weigh all landed CR crab. NOAA Fisheries Office for Law Enforcement (OLE) uses eLandings weekly reports, the printouts from the hopper scales showing the total weight of crab harvested, and additional auditing methods to verify CR quota accounting instead of using the catcher/processor offload reports. Further, even without the requirement to weigh and report the gross weight of offloaded product, the OLE will still have the authority and ability to conduct a full audit of offload weights to verify reported crab catch weight.

Specifically, this proposed rule would remove the requirement at § 680.5(e) for the owner or operator of a catcher/processor to complete and submit to NMFS-at the time of offload of CR crab-a catcher/processor offload report with its attached scale printout showing gross product offload weight. It also would remove § 680.5(a)(2)(i)(H) because it only serves as a cross-reference to § 680.5(e), which would be removed. This rule also would remove the requirement at § 680.23(b)(4) for catcher/processors to weigh all offloaded CR Program crab on a state-approved scale.

Classification

Pursuant to the Magnuson-Stevens Act, the NMFS Assistant Administrator for Fisheries has determined that this proposed rule is consistent with the FMP, other provisions of the Magnuson-Stevens Act, and other applicable law, subject to further consideration after public comment.

This rule would relieve restrictions by removing weighing and reporting requirements under the CR Program that NMFS has determined are no longer necessary for management and monitoring of the crab fisheries. Adequate information about the weight of crab harvested by catcher/processors under the CR Program is available under regulations that govern the weighing and reporting of crab catch on the IFQ landing report. The reports to be removed by this action were first implemented at the inception of the CR fisheries and were intended to be used primarily for purposes of auditing IFQ landing reports. However, with more experience managing those fisheries and advances in electronic reporting, NMFS has determined that these requirements are no longer necessary. Removing these requirements would relieve restrictions on the industry and would reduce costs to both the industry and NMFS.

The Chief Counsel for Regulation of the Department of Commerce certified to the Chief Counsel for Advocacy of the Small Business Administration that this proposed rule, if adopted, would not have a significant economic impact on a substantial number of small entities.

Factual Basis for Certification

Estimate of Economic Impact on Small Entities by Entity Size and Industry

The impacts of this action have been evaluated in the accompanying Regulatory Impact Review (RIR). The proposed regulatory changes would remove reporting requirements for directly regulated entities. The estimated costs of the current requirement imposed on directly regulated entities are small (on the order of $25 per report and the fleet of four to six vessels submits a total of about 18 such reports, annually). Thus, because the action would remove a regulatory requirement and decrease compliance costs for directly regulated entities, this proposed action is not expected to have a significant adverse economic impact on any directly regulated small entities.

Description and Estimate of the Number of Small Entities to Which the Rule Applies

The number of active crab catcher/processors changes annually. As noted above, from four to six vessels have submitted these reports in recent years. In 2009, there were five crab catcher/processors. An analysis of operation gross revenues from all Alaskan sources indicates that only one of these is a small entity under RFA criteria (total gross revenues from all sources less than $4 million). While this vessel would be affected by this action, one vessel would not constitute a substantial number of small entities.

Criteria Used to Evaluate Whether the Rule Would Impose “Significant Economic impacts”

The two criteria recommended to determine the significant economic impact of the action are disproportionality and profitability. The proposed action would not place a substantial number of small entities at a disadvantage, relative to large entities. The proposed action would not have disproportionate impacts on small entities.

The proposed action would not adversely affect the profitability of any small entity. Indeed, the proposed action would “remove” a reporting burden and, as such, would “reduce” economic costs imposed upon directly regulated small entities.

Criteria Used to Evaluate Whether the Rule Would Impose Impacts on “a Substantial Number” of Small Entities

NMFS' Guidelines for Economic Review of National Marine Fisheries Service Regulatory Actions (https://reefshark.nmfs.noaa.gov/f/pds/publicsite/documents/procedures/0111105.pdf) explain that the term “substantial number” has no specific statutory definition and the criterion does not lend itself to objective standards applicable across all regulatory actions. Rather, “substantial number” depends upon the context of the action, the problem to be addressed, and the structure of the regulated industry. The Small Business Administration casts “substantial” within the context of “more than just a few” or de minimis (“too few to care about” criteria).

Description of and Basis for Assumptions Used

The proposed rule would not impose adverse economic impacts on any of these entities. The economic analysis contained in the RIR further describes the potential size, distribution, and magnitude of the economic impacts that this action may have on small entities. Based upon that analysis and the foregoing, NMFS finds that the proposed action would not have a significant economic impact on the small entities participating in these fisheries. As a result, an initial regulatory flexibility analysis is not required, and none has been prepared.

This proposed rule has been determined to be not significant for purposes of Executive Order 12866.

Collection-of-information Requirements

This proposed rule contains collection-of-information requirements subject to the Paperwork Reduction Act (PRA) and which have been approved by the Office for Management and Budget (OMB) under OMB Control No. 0648-0570.

Public reporting burden per response is estimated to average 20 minutes for a catcher/processor crab offload report. This proposed rule would remove this offload report and the associated reporting burden.

These estimates of public reporting burden include the time for reviewing instructions, searching existing data sources, gathering and maintaining the data needed, and completing and reviewing the collection-of-information.

Send comments regarding this burden estimate or any other aspect of this data collection, including suggestions for reducing the burden, to NMFS (see ADDRESSES); e-mail to David_Rostker@omb.eop.gov or fax to 202-395-7285.

Notwithstanding any other provision of the law, no person is required to respond to, and no person shall be subject to penalty for failure to comply with, a collection of information subject to the requirements of the PRA, unless that collection of information displays a currently valid OMB control number.

List of Subjects in 50 CFR Part 680

Alaska, Fisheries, Reporting and recordkeeping requirements.

Dated: August 4, 2010.
Eric C. Schwaab,
Assistant Administrator for Fisheries, National Marine Fisheries Service.

For the reasons set out in the preamble, 50 CFR part 680 is proposed to be amended as follows:

PART 680-SHELLFISH FISHERIES OF THE EXCLUSIVE ECONOMIC ZONE OFF ALASKA

1. The authority citation for part 680 continues to read as follows:

Authority: 16 U.S.C. 1862; Pub. L. 109-241; Pub. L. 109-479.

§ 680.5 [Amended]

2. In § 680.5, remove and reserve paragraph (a)(2)(i)(H) and paragraph (e).

3. In § 680.23, revise paragraph (b)(4) to read as follows:

§ 680.23 Equipment and operational requirements.

(b) * * *

(4) Offload all CR crab product processed onboard at a shoreside location in the United States accessible by road or regularly scheduled air service; and

§ 680.23 [Amended]

4. At each of the locations shown in the “Location” column, remove the phrase indicated in the “Remove” column and replace it with the phrase indicated in the “Add” column for the number of times indicated in the “Frequency” column.

Location | Remove | Add | Frequency
§ 680.23(f)(3)(i) | delivery or offload are | delivery are | 1
§ 680.23(f)(3)(ii) | CR crab or an offload of CR crab product must | CR crab must | 1

[FR Doc. 2010-19728 Filed 8-9-10; 8:45 am]

BILLING CODE 3510-22-S